DEPARTMENT OF ENERGY

Federal Energy Regulatory Commission

[Docket No. CP04-51-000]

ANR Pipeline Company; Notice of Intent To Prepare an Environmental Assessment for the Proposed Eastleg Expansion Project and Request for Comments on Environmental Issues and Notice of Site Visit

January 29, 2004.

The staff of the Federal Energy Regulatory Commission (FERC or Commission) will prepare an environmental assessment (EA) that will discuss the environmental impacts of the Eastleg Expansion Project involving construction and operation of facilities by ANR Pipeline Company (ANR) in Washington, Brown and Ontoco Counties, Wisconsin.¹ These facilities would consist of about 8 miles of various diameter pipelines and one gas cooler at a compressor station. This EA will be used by the Commission in its decisionmaking process to determine whether the project is in the public convenience and necessity.

¹ ANR's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice ANR provided to landowners. This fact sheet addresses a number of typically asked questions, including the use of eminent domain and how to participate in the Commission's proceedings. It is available for viewing on the FERC Internet Web site (http://www.ferc.gov).

Summary of the Proposed Project

ANR wants to expand the capacity of its natural gas pipeline facilities to transport an additional 143,400 million British Thermal Units per day of natural gas along its 30-inch-diameter mainline in Wisconsin that would in turn serve two recently approved power plants under construction. ANR seeks authority to construct and operate:

• 4.7 miles of 30-inch-diameter pipeline to replace 4.7 miles of 14-inch-diameter pipeline, to be abandoned by removal, in Washington County, Wisconsin, including one new pig launcher and two new pig receivers (Mainline Replacement);

• 3.5 miles of 8-inch-diameter pipeline looping in Brown County, Wisconsin, including one new pig launcher and receiver and two tie-in facilities (Denmark Lateral Loop); and

• Modifications on its existing Mountain Compressor Station in Ontoco County, Wisconsin, including re-wheeling of a compressor unit and addition of a gas cooler and new piping and appurtenant facilities.

The general location of the project facilities is shown in appendix 1.²

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to page 6 of this notice. Copies of the appendices were sent to all those receiving this notice in the mail.

Land Requirements for Construction

Construction of the proposed facilities would require about 125 acres of land, of which 38 acres is currently in permanent right-of-way (ROW) easement and 87 acres would be temporary ROW easement. Following construction, about 10 acres of the temporary ROW easement would be converted to new permanent right-of-way for maintenance of the Denmark Lateral Loop. The remaining 77 acres of temporary ROW would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Cultural resources

• Air quality and noise

• Hazardous waste

• Public safety

• Land use

We will not discuss impacts to the following resource areas since they are not present in the project area, or would not be affected by the proposed facilities:

• Sole source aquifers

• Prime farmland

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on this page.

Currently Identified Environmental Issues

We have already identified several issues that we think deserve attention based on a preliminary review of the proposed facilities and the environmental information provided by ANR. This preliminary list of issues may be changed based on your comments and our analysis.

• Four state-protected aquifers occur in the project area, including the Sand and Gravel Aquifer, the Eastern Dolomite Aquifer, the Sandstone Aquifer, and the Crystalline Bedrock Aquifer.

• Approximately twenty water wells may be within 150 feet of the construction work area.

• Approximately 5.5 miles of cropland would be crossed by the pipelines.

• Approximately 2,000 feet of wetlands would be crossed by the pipelines.

• The Fox River would be crossed by drilling underneath the river.

• Two federally threatened species may occur in the proposed project area.

• Residential subdivisions occur along the pipeline replacement and looping, with at least 12 residences within 50 feet of the construction work area.

Public Participation

You can make a difference by providing us with your specific comments or concerns about the project. By becoming a commenter, your concerns will be addressed in the EA and considered by the Commission. You should focus on the potential environmental effects of the proposal, alternatives to the proposal, including alternative pipeline alignments, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP04-051-000.

• Mail your comments so that they will be received in Washington, DC on or before March 1, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (appendix 4). If you do not return the Information Request, you will be taken off the mailing list.

Notice of Site Visit

The OEP staff will conduct a site visit on February 17 and February 18, 2004, to inspect ANR's proposed pipeline replacement and looping for the Eastleg Expansion Project. The areas will be inspected by automobile. Representatives of ANR will accompany the OEP staff. Anyone interested in participating in the February 17 site visit for the Mainline Replacement in Washington County should meet at the Hawthorn Inn & Suites, W227 N16890 Tillie Lake Court, Jackson, Wisconsin 53037, at 2 p.m. Anyone interested in participating in the February 18 site visit for the Denmark Lateral Loop in Brown County should meet at the Riverside Shell gas station, 1010 S Broadway, DePere, Wisconsin 54115, at 12 p.m. Participants must provide their own transportation.

For additional information, contact the Commission's Office of External Affairs at 1-866-208-FERC.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnLineSupport@ferc.gov The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-187 Filed 2-4-04; 8:45 am]

BILLING CODE 6717-01-P